DEPARTMENT OF THE INTERIOR

Bureau of Land Management

[WY-050-1232-MF-WY05]

Notice of Closure of Public Lands to Motorized Vehicle Use

AGENCY: Bureau of Land Management, Interior.

ACTION: Notice of closure of certain public lands located in Fremont County, Wyoming, to all types of motor vehicle use.

SUMMARY: Pursuant to 43 Code of Federal Regulations (CFR) Subpart 8341.2(a), the Bureau of Land Management (BLM) announces the closure of certain BLM-administered public lands to all types of motor vehicle use to protect the National Historic Trails (NHT), which includes the Oregon, Mormon Pioneer, California, and Pony Express Trails.

This closure affects public lands located within Fremont County on the NHTs in the area known as Rocky Ridge. The closure area extends for approximately 2 miles from near the Lower Monument over Rocky Ridge to the western edge of the BLM-administered public land in Section 28, T29N, R97W.

DATES: This closure will be effective June 20, 2005, in accordance with the Environmental Assessment and Decision Record (March 28, 2005).

FOR FURTHER INFORMATION CONTACT: Ray Hanson, Outdoor Recreation Planner, Bureau of Land Management, 1335 Main Street, P.O. Box 589, Lander, Wyoming 82520. Mr. Hanson may also be contacted by telephone: 307-332-8420.

SUPPLEMENTARY INFORMATION: The BLM Lander Field Office is responsible for management of public lands within Fremont, Natrona, Carbon, Sweetwater, and Hot Springs Counties. The management of these lands is addressed in the Lander Resource Management Plan (RMP) Record of Decision (ROD), which was signed in June 1987. In the Finding of No Significant Impact and Decision Record, based upon Environmental Assessment, WY050-EA4-047, for the Proposed Special Recreation Permit to Conduct Handcart Treks on Bureau of Land Management Administered Public Lands Between Sixth Crossing and Rock Creek Hollow (March 28, 2005), a decision to issue an Off-Highway Vehicle closure was included to mitigate the impacts caused by motorized vehicle use to the cultural, historic, and natural resources on approximately 2 miles of the NHTs on Rocky Ridge.

The following BLM-administered lands are included in this closure:

• Approximately 2 miles of NHT from the Lower Monument over Rocky Ridge to the western edge of BLM-administered public land in Section 28, T29N, R97W.

• The closure will include both the main NHTs route and the approximately ½ mile NHT variant from the top of Rocky Ridge west to its return to the NHTs near the public/private land boundary.

A map of these areas will be posted with this notice at key locations near the closure area, as well as at the BLM's Lander Field Office, 1335 Main Street, Lander, Wyoming 82520.

Closure orders may be implemented as provided in 43 CFR, subparts 8341.2(a) and 8364.1(a, b, c, and d). Violations of this closure are punishable by a fine not to exceed $1000 and/or imprisonment not to exceed 12 months.

Persons who are administratively exempt from this closure include: any Federal, State, local officer, or employee acting within the scope of their duties, members of any organized rescue or fire-fighting force in performance of an official duty, and any person holding written authorization from the Bureau of Land Management.

Dated: July 6, 2005.
Robert A. Bennett,
State Director.

[FR Doc. 05-18606 Filed 9-16-05; 8:45 am]

BILLING CODE 4310-22-P